DEPARTMENT OF THE INTERIOR

Bureau of Land Management

43 CFR Part 1880

[WO-880-9500-PF-24-1A]

RIN 1004-AD23

Financial Assistance, Local Governments

AGENCY: Bureau of Land Management, Interior.

ACTION: Final rule.

SUMMARY: This final rule revises the regulations governing procedures for disbursing Payments in Lieu of Taxes (PILT) to units of general local government for entitlement lands within their boundaries. In addition, this final rule incorporates statutory changes to the authorizing legislation.

EFFECTIVE DATE: This rule is effective on September 22, 2000.

FOR FURTHER INFORMATION CONTACT: Bill Howell, Budget Group, (202) 452-7721 (Commercial or FTS). Persons who use a telecommunications device for the deaf (TDD) may call the Federal Information Relay Service at 1-800-877-8339, 24 hours a day, seven days a week, to contact Mr. Howell.

SUPPLEMENTARY INFORMATION:

I. Background

II. Responses to Comments

III. Final Rule as Adopted

IV. Procedural Matters

I. Background

This final rule updates the existing regulations to incorporate the following statutory changes to the PILT Act in the 103rd, 104th, and 105th Congresses (Public Law 103-397, October 22, 1994; Public Law 104-333, November 12, 1996; and Public Law 105-83, November 14, 1997):

1. Public Law 103-397 amended the PILT Act to indicate increases to the per acre values used to compute “6902 payments” and to the population table used to determine each unit of general local government's population ceiling. The public law also indexed payments for inflation, increased payments for entitlement lands based on the Consumer Price Index, and authorized payments for certain land exchanges and acquisitions.

2. Public Law 104-333 further amended the Act to redefine the meaning of “unit of general local government” and also stipulated which units of general local government are eligible to receive a PILT payment.

3. Public Law 105-83 amended the Act to exclude cities in Alaska from the definition of unit of general local government eligible to receive PILT payments.

Also, this final rule conforms the existing regulations to plain language format.

II. Responses to Comments

On April 24, 2000 (65 FR 21688), the Bureau of Land Management (BLM) published the Financial Assistance, Local Governments proposed rule in the Federal Register. The 60-day public comment period ended on June 23, 2000. We received no public comments on the proposed rule.

III. Final Rule as Adopted

BLM adopts the revisions to 43 CFR part 1880, Subpart 1881, of the proposed rule which was published in the Federal Register on April 24, 2000 (65 FR 21688), as a final rule with one change. We modified the language in the proposed rule by adding paragraph (b) to § 1881.41 describing how BLM will disburse section 6905 deferred payments. This is a technical correction.

IV. Procedural Matters

Executive Order 12866, Regulatory Planning and Review

This final rule is not a significant rule and was not subject to review by the Office of Management and Budget under Executive Order 12866. We have determined that this final rule: does not have an annual economic impact of $100 million or more; will not have an adverse impact in a material way on the economy, productivity, competition, jobs, the environment, public health or safety, or State, local, or tribal governments or communities; does not pose a serious inconsistency or interfere with an action taken or planned by another agency; does not alter the budgetary effects of entitlements, grants, user fees, or loan programs or the right or obligations of their recipients; and will not have novel legal or policy implications. Therefore, we do not have to assess the potential costs and benefits of the rule under section 6(a)(3) of this order.

National Environmental Policy Act (NEPA)

This final rule is subject to a categorical exclusion under NEPA. The final rule would incorporate statutory changes to the PILT Act. The PILT Act authorizes BLM to disburse PILT payments annually to counties and other units of general local government to compensate for the exemption of real estate taxes on entitlement lands within their boundaries. BLM has determined that this action to update existing regulations to incorporate statutory changes to the authorizing legislation is a regulation of financial, technical, and legal nature under section 101(2)(C) of the National Environmental Policy Act, pursuant to 516 Departmental Manual, Chapter 2, Appendix 1, Item 1.10. The environmental effects of the regulation are too broad, speculative, or conjectural to lend themselves to meaningful analysis. Therefore, pursuant to the Council on Environmental Quality regulations (40 CFR 1508.4) and the environmental policies and procedures of the Department of the Interior, BLM has found that neither an environmental assessment nor an environmental impact statement is required.

Regulatory Flexibility Act

This final rule does not require a regulatory flexibility analysis. Congress enacted the Regulatory Flexibility Act of 1980 (RFA), as amended (5 U.S.C. 601-612), to ensure that Government regulations do not necessarily or disproportionately burden small entities. The RFA requires a regulatory flexibility analysis if a rule has a significant economic impact, either detrimental or beneficial, on a substantial number of small entities. This final rule would not have significant economic impacts on small entities under the RFA (5 U.S.C. 601 et seq.). The final rule would update existing regulations to incorporate statutory changes to the authorizing legislation. The Acts do not affect small entities as they address transfer of funds from BLM to States. Accordingly, a regulatory flexibility analysis is not required.

Small Business Regulatory Enforcement Fairness Act

This final rule is not a “major rule” as defined by the Small Business Regulatory Enforcement Fairness Act (5 U.S.C. 804(2)). This final rule will not have a significant impact on the economy or on small businesses in particular. As discussed above, this final rule would update existing regulations to incorporate statutory changes to the authorizing legislation and do not affect small businesses.

Unfunded Mandates Reform Act

This final rule does not impose an unfunded mandate on State, local or tribal governments or the private sector of more than $100 million per year. This final rule does not have a significant or unique effect on State, local or tribal governments or the private sector. Therefore, we are not required to prepare a statement containing the information required by the Unfunded Mandates Reform Act (2 U.S.C. 1502 et seq.). This final rule would explain how BLM disburses PILT payments to States and units of general local government and update the existing regulations to incorporate statutory changes to the authorizing legislation.

Executive Order 12630, Governmental Actions and Interference With Constitutionally Protected Property Rights (Takings)

This final rule does not represent a government action capable of interfering with constitutionally protected property rights. Therefore, we have determined that the regulation would not cause a taking of private property. No further discussion of takings implications are required under this Executive Order.

Executive Order 13132, Federalism

We have considered the effect of the final rule in accordance with Executive Order 13132 and have determined that it does not have sufficient Federalism implications to warrant the preparation of a Federalism summary impact statement. The final rule does not have substantial direct effects on the States, on the relationship between the national government and the States, or on the distribution of power and responsibilities among the various levels of government. The rule does not preempt State law. However, we consulted with the National Association of Counties staff to discuss the general framework of this rule making.

Paperwork Reduction Act

The information collection requirements in this final rule have been approved by the Office of Management and Budget (OMB). The OMB approved the information collection requirements under Approval No. 1004-0109 which expires on May 31, 2003, for the Paperwork Reduction Act of 1995, (44 U.S.C. 3501 et seq.).

Executive Order 12988, Civil Justice Reform

The Office of the Solicitor has determined that this final rule will not unduly burden the judicial system and that it meets the requirements of sections 3(a) and 3(b)(2) of Executive Order 12988.

Author: The principal author is Bill Howell, Budget Group, assisted by Shirlean Beshir, Regulatory Affairs Group.

List of Subjects in 43 CFR Part 1880

Administrative practice and procedure, Financial assistance—local governments, Grant programs—natural resources, Land Management Bureau, Loan programs—natural resources, Payments in lieu of taxes, Public lands, Public lands—mineral resources.

Dated: August 1, 2000.
Sylvia V. Baca,
Assistant Secretary, Land and Minerals Management.

Accordingly, under the authority of 43 U.S.C. 1740, BLM revises 43 CFR Part 1880, subpart 1881, as set forth below:

PART 1880—FINANCIAL ASSISTANCE, LOCAL GOVERNMENTS

Subpart 1881—Payments in Lieu of Taxes

Sec.
General Information
1881.10 What is the purpose of this subpart?
1881.11 What is the authority for this subpart?
1881.12 How does BLM define terms used in this subpart?
1881.13 Who is eligible to receive PILT payments?
Payments to Local Governments Containing Entitlement Lands (31 U.S.C. 6902)
1881.20 How does BLM process section 6902 payments?
1881.21 What information does BLM need to calculate these payments?
1881.22 Are there special circumstances that affect the way BLM calculates PILT payments?
1881.23 How does BLM certify payment computations?
Payments to Local Governments for Acquisitions or Interest in Lands Acquired for Addition to the National Park System or National Forest Wilderness Areas (31 U.S.C. 6904)
1881.30 How does BLM process section 6904 payments?
1881.31 How does BLM calculate section 6904 payments?
Payments to Local Governments for Interest in Lands in the Redwood National Park or Lake Tahoe Basin (31 U.S.C. 6905)
1881.40 How does BLM process section 6905 payments?
1881.41 How does BLM calculate section 6905 payments?
State and Local Governments' Responsibilities After BLM Distributes Pilt Payments
1881.50 What are the local governments' responsibilities after receiving sections 6902, 6904, and 6905 PILT payments?
1881.51 Are there general procedures applicable to all PILT payments?
1881.52 May a State enact legislation to reallocate or redistribute PILT payments?
1881.53 What is BLM's procedure on PILT payments to a State that enacts distribution legislation?
1881.54 What happens if a State repeals or amends distribution legislation?
1881.55 Can a unit of general local government protest the results of payment computations?
1881.56 How does a unit of general local government file a protest?
1881.57 Can a unit of general local government appeal a rejection of a protest?

Subpart 1881—Payments in Lieu of Taxes

Authority: Public Law 94-565, 90 Stat. 2662, as amended, 31 U.S.C. 6901-6907.

General Information

§ 1881.10 What is the purpose of this subpart?

This subpart sets forth procedures the Bureau of Land Management uses in disbursing Federal payments in lieu of taxes to units of general local government for entitlement lands within their boundaries.

§ 1881.11 What is the authority for this subpart?

Public Law 94-565, 90 Stat. 2662, as amended, 31 U.S.C. 6901-6907 continues as authority for this subpart.

§ 1881.12 How does BLM define terms used in this subpart?

Entitlement land means land owned by the United States:

(1) That is in the National Park System or the National Forest System, including wilderness areas, and national forest lands in northern Minnesota described in 16 U.S.C. 577d—577d-1;

(2) That is administered by the Secretary of the Interior through the Bureau of Land Management;

(3) That is dedicated to the use of the Government for water resource development projects;

(4) On which there are semi-active or inactive installations, excluding industrial installations, that the Department of Army keeps for mobilization and reserve component training;

(5) That is a dredge disposal area under the jurisdiction of the Army Corps of Engineers;

(6) That is located in the vicinity of Purgatory River Canyon and Pinon Canyon, Colorado, and acquired by the United States after December 23, 1981, to expand the Fort Carson military installation; or

(7) That is a reserve area as defined in 16 U.S.C. 715s(g)(3), which is an area of land withdrawn from the public domain and administered, either solely or primarily, by the Secretary of the Interior, through the Fish and Wildlife Service.

Payments in lieu of taxes (PILT) means Federal payments disbursed to units of general local government to compensate for the exemption of real estate taxes on entitlement lands within their boundaries.

Section 6902 (31 U.S.C. 6902) payments means Federal payments disbursed to units of general local government containing entitlement lands.

Section 6904 (31 U.S.C. 6904) payments means Federal payments disbursed to units of general local government for acquisitions or interest in lands acquired for addition to the National Park System or National Forest Wilderness Areas.

Section 6905 (31 U.S.C. 6905) payments means Federal payments disbursed to units of general local government for lands in the Redwood National Park or Lake Tahoe Basin.

Unit of general local government means:

(1) A county, parish, township, borough, or city, (other than in Alaska), where the city is independent of any other unit of general local government, that:

(i) Is within the class(es) of such political subdivision in a State that the Secretary of the Interior determines, in his discretion, to be the principal provider(s) of governmental services within the State; and

(ii) Is a unit of general local government, as determined by the Secretary of the Interior on the basis of the same principles as were used by the Secretary of Commerce on January 1, 1983, for general statistical purposes.

(2) Any area in Alaska that is within the boundaries of a census area used by the Secretary of Commerce in the decennial census, but that is not included within the boundaries of a governmental entity described under paragraph (1) of this definition.

(3) The Governments of the District of Columbia, the Commonwealth of Puerto Rico, Guam, and the Virgin Islands.

§ 1881.13 Who is eligible to receive PILT payments?

(a) Each unit of general local government containing entitlement lands may receive a PILT payment.

(b) A unit of general local government may not receive a payment for land owned or administered by a State or unit of general local government that was exempt from real estate taxes when the land was conveyed to the United States. However, a unit of general local government may receive a PILT payment for land when:

(1) A State or unit of general local government acquires from a private party to donate to the United States within eight years of acquisition;

(2) A State acquires through an exchange with the United States if the land acquired was entitlement land; or

(3) In the State of Utah, that the United States acquires for Federal land, royalties or other assets if, at the time of acquisition, a unit of general local government was entitled to receive payments in lieu of taxes from the State of Utah for the land; provided that the payment to the local government does not exceed the payment the State would have disbursed if the land had not been acquired.

Payments to Local Governments Containing Entitlement Lands (31 U.S.C. 6902)

§ 1881.20 How does BLM process section 6902 payments?

(a) The BLM:

(1) Determines the eligibility of units of general local governments, conferring when necessary, with the Bureau of the Census, officials of appropriate State and local governments, and officials of the agency administering the entitlement land;

(2) Computes the amount of the payment disbursed to each unit of general local government; and

(3) Certifies the amount of the payment disbursed to each unit of general local government.

(b) The BLM disburses a payment each fiscal year to each unit of general local government containing entitlement lands.

(c) The State of Alaska is required to distribute the payment it receives to home rule cities and general law cities (as such cities are defined by the State) that are located within the boundaries of the unit of general local government entitled to the payment.

§ 1881.21 What information does BLM need to calculate these payments?

(a) The BLM obtains the necessary data on Federal and State payments from several sources:

(1) Federal agencies provide the amount of entitlement land within the boundaries of each unit of general local government as of the last day of the fiscal year preceding the fiscal year for which BLM disburses the payment.

(2) The Governor or designated official provides the amount of money transfers (land revenue sharing payments) disbursed by the State during the previous fiscal year to eligible units of general local government under the following payment laws listed under 31 U.S.C. 6903(a)(1):

(i) The Act of June 20, 1910 (Arizona and New Mexico Enabling Acts) (ch. 310, 36 Stat 557);

(ii) Section 33 of the Bankhead-Jones Farm Tenant Act (7 U.S.C. 1012);

(iii) The Act of May 23, 1908 (Knutson-Vandenberg Act regarding Forest Service timber sales contracts) (16 U.S.C. 500);

(iv) Section 5 of the Act of June 22, 1948 (Payments to Minnesota from northern Minnesota National Forest receipts) (16 U.S.C. 577g-l);

(v) Section 401(c)(2) of the Act of June 15, 1935 (Payments to local governments from National Wildlife Refuge System receipts) (16 U.S.C. 715s(c)(2));

(vi) Section 17 of the Federal Power Act (16 U.S.C. 810);

(vii) Section 35 of the Act of February 25, 1920 (Mineral Leasing Act) (30 U.S.C. 191);

(viii) Section 6 of the Mineral Leasing Act for Acquired Lands (30 U.S.C. 355);

(ix) Section 3 of the Act of July 31, 1947 (Materials Act of 1947) (30 U.S.C. 603); and

(x) Section 10 of the Act of June 28, 1934 (Taylor Grazing Act) (43 U.S.C. 315i).

(3) The Bureau of the Census provides statistics on the population of each unit of general local government.

(b) The BLM consults with the affected unit of general local government and the administering agency to resolve conflicts in land records and other data sources.

(c) The BLM uses the amount of actual appropriations, the formula set forth in 31 U.S.C. 6903(b)(1), which includes inflation adjustments, and Federal and State payments disbursed during the previous fiscal year to units of general local government under the land payment laws listed under 31 U.S.C. 6903(a)(1).

§ 1881.22 Are there any special circumstances that affect the way BLM calculates PILT payments?

If a unit of general local government eligible for payments under this subpart reorganizes, BLM will calculate payments for the fiscal year in which the reorganization occurred as if the reorganization had not occurred. BLM will disburse any payment due to each new unit based on the amount of eligible acreage in that unit.

§ 1881.23 How does BLM certify payment computations?

(a) The BLM will certify a computation for payment only after the Governor of the State or designated official in which the unit of general local government is located provides the BLM with:

(1) A statement of the amount of all money transfers (land revenue sharing payments) that each entitled unit of general local government has received from the State during the previous fiscal year from revenues derived from the payment law(s) listed under 31 U.S.C. 6903(a)(1);

(2) A certification, in writing, signed by a State Auditor, an independent Certified Public Accountant or an independent public accountant that the statements furnished by the Governor or designated official have been audited in accordance with auditing standards established by the U.S. Comptroller General in Standards of Audit of Governmental Organizations, Programs, Activities and Functions, available through the Superintendent of Documents, U.S. Government Printing Office, Washington, DC 20402, and in accordance with the Audit Guide for Payments in Lieu of Taxes issued by the Department of the Interior.

(b) The Office of the Inspector General, U.S. Department of the Interior, will provide appropriate assistance to the Director, BLM, under the provisions of sections 4 and 6 of the Inspector General Act of 1978 (5 U.S.C. Appendix), to facilitate implementing and administering the audit requirements specified in paragraph (a)(2) of this section.

(c) The Office of the Inspector General will:

(1) Develop appropriate audit guides which State auditors, independent Certified Public Accountants or independent public accountants, must use to audit the statements of the Governors or their designated officials and to certify the audits; and

(2) Furnish copies of the guides to the Governor or designated official each year. You should send questions on the use or application of this guide to the Office of Inspector General, U.S. Department of the Interior, Washington, DC 20240.

(d) The BLM may waive the requirement to certify audits if the General Accounting Office or the Office of the Inspector General verifies the information in statements the Governor or designated official furnishes or if BLM determines it is not necessary.

Payments to Local Governments for Acquisitions or Interest in Lands Acquired for Addition to the National Park System or National Forest Wilderness Areas (31 U.S.C. 6904)

§ 1881.30 How does BLM process section 6904 payments?

(a) The BLM disburses payments to qualified units of general local government provided that the administering agency supplies the following information for each qualified unit of general local government:

(1) Acreage or interests in land for which the payments are authorized; and

(2) Any other information BLM may require to certify payments to each qualified unit of general local government.

(b) BLM only disburses payments for a period of five years from the date the land was conveyed to the United States.

§ 1881.31 How does BLM calculate section 6904 payments?

BLM calculates payments by determining 1% of the fair market value of the purchased land and comparing the result to the amount of real estate taxes paid on the land in the year prior to Federal acquisition. The payment to qualified units of general local government will be the lesser of the two.

Payments to Local Governments for Interest in Lands in the Redwood National Park or Lake Tahoe Basin (31 U.S.C. 6905)

§ 1881.40 How does BLM process section 6905 payments?

(a) The BLM disburses payments to qualified units of general local government provided the administering agency supplies the following information for each qualified unit of general local government:

(1) Acreage or interests in land for which the payments are authorized; and

(2) Any other information BLM may require to certify payments to each qualified unit of general local government.

(b) BLM disburses payments until 5% of the fair market value is paid in full.

§ 1881.41 How does BLM calculate section 6905 payments?

(a) BLM calculates payments by determining 1% of the fair market value of the purchased land and comparing the result to the amount of real estate taxes paid on the land in the year prior to Federal acquisition. The payment to qualified units of general local government will be the lesser of the two.

(b) BLM disburses payments annually for a period of five years beginning in the year immediately following the year of Federal acquisition of the land or interest. The difference, if any, between the amounts actually paid during each of the five years and 1% of the fair market value will be deferred to future years. However, a payment or any portion of a payment not paid because Congress appropriated insufficient monies will not be deferred. BLM will begin annual payment of the deferred amount (calculated the same as in paragraph (a) of this section) starting with the sixth fiscal year following Federal acquisition. BLM disburses payment of the deferred amount until the total amount deferred during the first five years is paid in full.

State and Local Governments' Responsibilities After BLM Distributes Pilt Payments

§ 1881.50 What are the local governments' responsibilities after receiving sections 6902, 6904, and 6905 PILT payments?

(a) The local government may use section 6902 payments for any governmental purpose.

(b) Within 90 days of receiving sections 6904 and 6905 payments, the local government must distribute the funds to the affected units of general local government and affected school districts. The affected units of general local government and school districts may use sections 6904 and 6905 payments for any governmental purpose.

(c) The local government must distribute sections 6904 and 6905 payments in proportion to the tax revenues assessed and levied by the affected units of general local government and school districts in the Federal fiscal year before the Federal Government acquired the entitlement lands. The Redwoods Community College District in California is an affected school district for this purpose.

(d) Within 120 days of receiving payments, the local government must certify to BLM that it has made an appropriate distribution of funds.

§ 1881.51 Are there general procedures applicable to all PILT payments?

(a) The minimum payment that the BLM will disburse to any unit of general local government is $100.00 (one hundred dollars).

(b) If Congress appropriates insufficient monies to provide full payment to each unit of general local government during any fiscal year, the BLM will reduce proportionally all payments in that fiscal year.

§ 1881.52 May a State enact legislation to reallocate or redistribute PILT payments?

A State may enact legislation to reallocate or redistribute PILT payments. If a State does enact legislation, it must:

(a) Notify the BLM if it enacts legislation which requires reallocating or redistributing payments to smaller units of general local government (see 31 U.S.C. 6907);

(b)Provide the BLM a copy of the legislation within 60 days of enactment;

(c) provide the name and address of the State government office to which BLM should send the payment;

(d) distribute to its smaller units of general local government within 30 days of receiving the payment; and

(e) not reduce the payment made to smaller units of general local government to pay the cost of State legislation which reallocates or redistributes payments.

§ 1881.53 What is BLM's procedure on PILT payments to a State that enacts distribution legislation?

The BLM would:

(a) Notify the State that a single payment will be disbursed to the designated State government office beginning with the Federal fiscal year following the fiscal year in which the State enacted legislation; and

(b) Provide the State with appropriate information that identifies the entitlement lands data on which BLM bases the payment.

§ 1881.54 What happens if a State repeals or amends distribution legislation?

(a) The State must immediately notify the BLM in writing that it has repealed or amended the legislation and furnish BLM with a copy of the new law.

(b) The BLM must:

(1) Determine if the State's process complies with 31 U.S.C. 6907. If BLM determines that it does not, we must notify the designated State government office that BLM will disburse payment directly to eligible units of general local government; and

(2) Start the payments with the Federal fiscal year in which the BLM receives a copy of the State's amendatory legislation. If BLM receives a copy of the legislation after July 1, payments made directly to eligible units of general local government will not begin until the next Federal fiscal year.

§ 1881.55 Can a unit of general local government protest the results of payment computations?

Any affected unit of general local government may file a protest with the BLM.

§ 1881.56 How does a unit of general local government file a protest?

The protesting unit of general local government must:

(a) Submit evidence to indicate the possibility of error(s) in the computations or the data on which BLM bases the computations; and

(b) File the protest by the first business day of the calendar year following the end of the fiscal year for which BLM made the payments.

§ 1881.57 Can a unit of general local government appeal a rejection of a protest?

Any affected unit of general local government may appeal BLM's decision to reject a protest to the Interior Board of Land Appeals under the provisions of 43 CFR part 4.

[FR Doc. 00-21419 Filed 8-22-00 8:45 am]

BILLING CODE 4310-84-P